DEPARTMENT OF TRANSPORTATION

Federal Aviation Administration

RTCA; Joint RTCA Special Committee 181/EUROCAE Working Group 13 Standards of Navigation Performance

Pursuant to section 10(a) (2) of the Federal Advisory Committee Act (Pub. L. 92-463, 5 U.S.C., Appendix 2), notice is hereby given for a joint Special Committee 181/EUROCAE Working Group 13 meeting to be held January 22-25, 2001, starting at 9:00 a.m. The meeting will be held at Honeywell International Inc., Phoenix AZ 85036.

The agenda will include the following: January 22, 24, 25: (1) Working Groups (WG) 1 and 4 to meet separately. January 23: 9:00 a.m.-12:00 a.m. (2) Plenary Session; (3) Introductory Remarks; (4) Working Group Reports; (5) Plenary Review: (a) Expanding the Scope of WG-4; (b) Possible new Terms of Reference; (6) New Business; (7) Date and Location of Next Meeting; (8) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site); or the on-site contact, Mr. Mike Adams, at (602) 436-2995 (phone), michael.adams@honeywell.com (email). Members of the public may present a written statement to the committee at any time.

Issued in Washington, DC, on December 21, 2000.
Janice L. Peters,
Designated Official.

[FR Doc. 00-33186 Filed 12-27-00; 8:45 am]

BILLING CODE 4910-13-M